DEPARTMENT OF THE INTERIOR

Fish and Wildlife Service

50 CFR Part 16

RIN 1018-AG70

Injurious Wildlife Species; Black Carp (Mylopharyngodon piceus)

AGENCY: Fish and Wildlife Service, Interior.

ACTION: Proposed rule; reopening of comment period.

SUMMARY: The U.S. Fish and Wildlife Service announces the reopening of the public comment period on the proposed rule to add black carp (Mylopharyngodon piceus) to the list of injurious fish, mollusks, and crustaceans under the Lacey Act. We are reopening the comment period at this time in order to collect the best and most current scientific and economic data available on the proposed rule. Comments previously submitted need not be resubmitted as they will be incorporated into the public record and will be fully considered in the preparation of the next action.

DATES: Comments must be submitted on or before August 4, 2003.

ADDRESSES: Comments may be hand-delivered, mailed, or sent by fax to the Chief, Division of Environmental Quality, U.S. Fish and Wildlife Service, 4401 North Fairfax Drive, Suite 322, Arlington, VA 22203; FAX (703) 358-1800. You may send comments by electronic mail (e-mail) to: BlackCarp@fws.gov. See the Public Comments Solicited section below for file format and other information about electronic filing.

FOR FURTHER INFORMATION CONTACT: Kari Duncan, Division of Environmental Quality, Branch of Invasive Species, at (703) 358-2464 or kari_duncan@fws.gov.

SUPPLEMENTARY INFORMATION:

Background

The U.S. Fish and Wildlife Service published a proposed rule to add black carp to the list of injurious fish, mollusks, and crustaceans under the Lacey Act on July 30, 2002 (67 FR 49280). This listing would have the effect of prohibiting the importation of any live animal or viable egg of the black carp into the United States and prohibiting the movement of black carp or viable eggs between States without a permit issued by the Director of the Service. The best available information indicates that this action is necessary to protect the interests of human beings, and wildlife and wildlife resources from the purposeful or accidental introduction and subsequent establishment of black carp populations into ecosystems of the United States. As proposed, live black carp or viable eggs could be imported only by permit for scientific, medical, educational, or zoological purposes, or without a permit by Federal agencies solely for their own use; permits would also be required for the interstate transportation of live black carp or viable eggs currently held in the United States for scientific, medical, educational, or zoological purposes. The proposal would prohibit interstate transportation of live black carp or viable eggs currently held in the United States for any other purpose.

The 60-day comment period on the proposed rule to add black carp to the list of injurious wildlife closed on September 30, 2002. During that comment period, we received information indicating that we had identified only one of the two parasites affecting the catfish, baitfish, sportfish, largemouth bass, and hybrid striped bass aquaculture facilities and that we had underestimated the economic impact that the proposed rulemaking may have on those facilities. However, we did not receive sufficient information on the magnitude of the effects of these parasites on those facilities to complete the economic analysis. We are reopening the comment period to gather more economic and scientific data on black carp. In addition to seeking general scientific and economic information on black carp, we are seeking specific information relative to the magnitude of impact that yellow grubs (Clinostomum complanatum) and flatworms (Bolbophorus confusus) have had on catfish, baitfish, sportfish, largemouth bass, and hybrid striped bass aquaculture facilities; alternative chemical and/or biological methods used to control the parasites affecting these aquaculture facilities; potential or known distribution of black carp; and potential or known impact of black carp on native species.

Public Comments Solicited

We are reopening the comment period at this time in order to collect the best and most current scientific and economic data available regarding the proposal to add black carp to the list of injurious wildlife under the Lacey Act. Previously submitted comments on the proposed rule need not be resubmitted. We will accept new and/or additional written comments and information during this reopened comment period.

Submit comments as identified in ADDRESSES. If you submit comments by e-mail, please submit comments as an ASCII file format and avoid the use of special characters and encryption. Please include “Attn: [RIN 1018-AG70]” in your e-mail subject line and your name and return address in your e-mail message. If you do not receive a confirmation from the system that we have received your e-mail message, contact us directly by calling our office at telephone number 703-358-2148 during normal business hours. Please note that this e-mail address will be closed at the termination of this public comment period.

Our practice is to make comments, including names and home addresses of respondents, available for public review during regular business hours. Individual respondents may request that we withhold their home address from the rulemaking record, which we will honor to the extent allowable by law. In some circumstances, we would withhold from the rulemaking record a respondent's identity, as allowable by law. If you wish for us to withhold your name and/or address, you must state this prominently at the beginning of your comment. However, we will not consider anonymous comments. We will make all submissions from organizations or businesses, and from individuals identifying themselves as representatives or officials of organizations or businesses, available for public inspection in their entirety.

Authority

The authority citation continues to read as follows:

Authority: 18 U.S.C. 42.

Dated: May 22, 2003.
Craig Manson,
Assistant Secretary for Fish and Wildlife and Parks.

[FR Doc. 03-13996 Filed 6-3-03; 8:45 am]

BILLING CODE 4310-55-P